DEPARTMENT OF DEFENSE

Department of the Navy

Notice of Intent To Grant Partially Exclusive License; Phase IV Engineering, Inc.

AGENCY: Department of the Navy, DoD.

ACTION: Notice.

SUMMARY: The Department of the Navy gives notice of its intent to grant Phase IV Engineering, Inc., a revocable, nonassignable, partially exclusive license, with exclusive fields of use in commercial transportation and logistics, law enforcement, private security, highway and road safety, facility HVAC, in the United States to practice the Government-owned invention, U.S. Patent Application Serial Number 10/021,700 entitled “Micromechanical Shock Sensor.”

DATES: Anyone wishing to object to the grant of this license must file written objections along with supporting evidence, if any, not later than August 8, 2003.

ADDRESSES: Written objections are to be filed with Indian Head Division, Naval Surface Warfare Center, Code OC4, 101 Strauss Avenue, Indian Head, MD 20640-5035.

FOR FURTHER INFORMATION CONTACT: Dr. J. Scott Deiter, Head, Technology Transfer Office, Naval Surface Warfare Center Indian Head Division, Code 05T, 101 Strauss Avenue, Indian Head, MD 20640-5035, telephone (301) 744-6111.

Dated: July 10, 2003.
E.F. McDonnell,
Major, U.S. Marine Corps, Federal Register Liaison Officer.

[FR Doc. 03-18683 Filed 7-22-03; 8:45 am]

BILLING CODE 3810-FF-P